Proclamation 8587 of October 15, 2010

National Forest Products Week, 2010

By the President of the United States of America

A Proclamation

Since the first communities and settlements in our Nation, forests and their products have played a vital role in our growth and economic development. Forests have also enhanced the splendor of our surroundings, served as wildlife habitats, provided places for recreational activities, and offered serene settings for contemplation. As we mark the 50th anniversary of National Forest Products Week, we recognize the enduring value of forests as sustainable, renewable, and bountiful resources, and we recommit to our stewardship and efforts to further their conservation.

Our Nation’s forests provide us with clean water and air, wood, wildlife, recreation, and beauty. Forest products can be seen in myriad places in our daily lives, from the houses we live in to the paper we write on. National Forest Products Week draws attention to these invaluable resources, and to the importance of ensuring our forests remain flourishing ecosystems that will provide indispensable benefits for current and future generations. Every forested acre represents an opportunity to reduce the effects of climate change; to protect habitats and communities; to explore nature; to provide clean air and water; and to produce raw materials like timber, fiber, and biomass.

Earlier this year, I launched the America’s Great Outdoors Initiative to develop a 21st-century conservation agenda that will reconnect Americans with the outdoors and protect our Nation’s vast and varied natural heritage. Senior officials from my Administration have been traveling across America to learn about innovative ways that private landowners; State, local, and tribal governments; conservationists; and other concerned citizens are coming together to preserve our natural resources. They have also heard about the many benefits our forests and their products provide the Nation.

In this time of economic recovery, we must not forget the jobs created and supported by forest management and restoration, as well as the significant contributions made by the Americans who work in these sectors. They not only help bring forest products to market, but also spur innovative ways to move our country forward. Forests provide renewable and recyclable commodities, and scientific exploration can find new frontiers of growth in their application. Through new technologies, we have made progress in nanotechnology, enhanced biofuels and biochemicals; expanded our knowledge of medicinal plants; and examined more sustainable green building practices. Through careful conservation of our forests, we can ensure future generations will be able to both enjoy these national treasures and expand upon the many uses we have for their products today.

To recognize the importance of products from our forests, the Congress, by Public Law 86-753 (36 U.S.C. 123), as amended, has designated the week beginning on the third Sunday in October of each year as National Forest Products Week, and has authorized and requested the President to issue a proclamation in observance of this week.

NOW, THEREFORE, I, BARACK OBAMA, President of the United States of America, do hereby proclaim October 17 through October 23, 2010, as National Forest Products Week. I call on all Americans to celebrate the varied uses and products of our forested lands, as well as the people who carry on the tradition of careful stewardship of these precious natural resources for generations to come.

IN WITNESS WHEREOF, I have hereunto set my hand this fifteenth day of October, in the year of our Lord two thousand ten, and of the Independence of the United States of America the two hundred and thirty-fifth.

[FR Doc. 2010-26578

Filed 10-19-10; 8:45 am]

Billing code 3195-W1-P